ENVIRONMENTAL PROTECTION AGENCY

[EPA-HQ-OPP-2015-0086; FRL-9931-20]

Environmental Quality Issues and Pesticides Operations and Management State FIFRA Issues Research and Evaluation Group; Notice of Public Meeting

AGENCY: Environmental Protection Agency (EPA).

ACTION: Notice.

SUMMARY: The Association of American Pesticide Control Officials (AAPCO)/State FIFRA Issues Research and Evaluation Group (SFIREG), the Environmental Quality Issues (EQI) and the Pesticides Operations and Management (POM) committees will hold a joint 2-day meeting, beginning on September 21, 2015 and ending September 22, 2015. This notice announces the location and times for the meeting and sets forth the tentative agenda topics.

DATES: The meeting will be held on Monday, September 21, 2015, from 8 a.m. to 5 p.m. and 8:30 a.m. to 3 p.m. on Tuesday, September 22, 2015.

To request accommodation of a disability, please contact the person listed in this notice under FOR FURTHER INFORMATION CONTACT. Please contact EPA at least 10 days prior to the meeting, to give EPA as much time as possible to process your request.

ADDRESSES: The meeting will be held at EPA, One Potomac Yard (South Bldg.) 2777 Crystal Dr., Arlington, Virginia, 1st Floor, South Conference Room.

FOR FURTHER INFORMATION CONTACT: Ron Kendall, Field and External Affairs Division (7506P), Office of Pesticide Programs, Environmental Protection Agency, 1200 Pennsylvania Ave. NW., Washington, DC 20460-0001; telephone number: (703) 305-5561; fax number: (703) 305-5884; email address: kendall.ron@epa.gov or Amy Bamber, SFIREG Executive Secretary, at aapco-sfireg@comcast.net.

SUPPLEMENTARY INFORMATION:

I. General Information

A. Does this action apply to me?

You may be potentially affected by this action if you are interested in pesticide regulation issues affecting states and any discussion between EPA and SFIREG on field implementation issues related to human health, environmental exposure to pesticides, and insight into EPA's decision-making process. You are invited and encouraged to attend the meetings and participate as appropriate. Potentially affected entities may include (but are not limited to) persons who are or may be required to conduct testing of chemical substances under the Federal Food, Drug and Cosmetics Act (FFDCA), or the Federal Insecticide, Fungicide, and Rodenticide Act (FIFRA) and those who sell, distribute or use pesticides, as well as any non-government organization. If you have any questions regarding the applicability of this action to a particular entity, please consult the person in this notice listed under FOR FURTHER INFORMATION CONTACT.

B. How can I get copies of this document and other related information?

The docket for this action, identified by docket identification (ID) number EPA-HQ-OPP-2015-0086, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744 and the telephone number for the OPP Docket is (703) 305-5805. Please review the visitor instructions and additional information about the docket available at http://www.epa.gov/dockets.

II. Tentative Agenda Topics

1. Pollinator protection issues:

a. Managed pollinator protection plans

b. EPA pollinator policy public comment update

c. Environmental hazard statement in relation to bees

d. Follow-up on bee kill reporting on 5700 dashboard

2. Briefing on a new system for data sharing that could provide opportunities for states to engage in meaningful data sharing.

3. Results of the joint project with the National Marine Fisheries Service dealing with targeted monitoring for the Endangered Species Act Reasonable and Prudent Measures (RPMs) and Reasonable and Prudent Alternatives (RPAs) in final biological opinions for pesticides.

4. Discuss final submittal of Pesticides of Interest National Tracking System (POINTS) recommendation paper.

5. An update on EPA's stance on treated seed.

6. Pesticide general permit reissuance update.

7. Worker Protection Standard final rule status and further update on implementation strategy or staff to discuss specific inconsistencies of personal protective equipment between label and National Institute of Occupational Safety and Health.

8. Safer Choice related discussion.

9. Registrant agreement by EPA with Wellmark on methomyl.

10. 2,4-D report from International Agency for Research on Cancer discussion.

11. Pyrethroid re-evaluation.

12. Cannabis follow-up and update.

13. Distributor label follow-up-update on letter and enforcement by the agency.

14. Demonstrate a field inspection tool developed by the National Pesticide.

15. Information Retrieval System for use by inspectors.

16. Performance measures update.

17. Laboratory Discussion to increase regulatory awareness.

III. How can I request to participate in this meeting?

This meeting is open for the public to attend. You may attend the meeting without further notification.

Authority: 7 U.S.C. 136 et seq.

Dated: August 3, 2015.
Patricia L. Parrott,
Acting, Director, Field and External Affairs Division, Office of Pesticide Protection.

[FR Doc. 2015-19824 Filed 8-11-15; 8:45 am]

BILLING CODE 6560-50-P